NATIONAL AERONAUTICS AND SPACE ADMINISTRATION

[Notice (07-005)]

NASA Advisory Council; Science Committee; Science Subcommittees; Meeting

AGENCY: National Aeronautics and Space Administration.

ACTION: Notice of meeting.

SUMMARY: The National Aeronautics and Space Administration (NASA) announces a meeting of the Science Subcommittees of the NASA Advisory Council (NAC). These Subcommittees report to the Science Committee of the NAC. The Meeting will be held for the purpose of soliciting from the scientific community and other persons scientific and technical information relevant to program planning.

DATES: Monday, February 26, 2007, 8 a.m. to 5 p.m. Mountain Standard Time.

ADDRESSES: Fiesta Inn Resort, 2100 South Priest Drive, Tempe, AZ 85282.

FOR FURTHER INFORMATION CONTACT: Ms. Marian Norris, Science Mission Directorate, NASA Headquarters, Washington, DC 20546, (202) 358-4452, fax (202) 358-4118, or mnorris@nasa.gov.

SUPPLEMENTARY INFORMATION: The meeting will primarily consist of five separate breakout sessions of the Subcommittees of the NAC Science Committee. The five Subcommittees are: The Astrophysics Subcommittee, the Earth Science Subcommittee, the Heliophysics Subcommittee, the Planetary Sciences Subcommittee, and the Planetary Protection Subcommittee. The breakout sessions will focus on: (1) Preparation for the next day's Workshop on Science Associated with the Lunar Exploration Architecture; (2) Program updates from Directors in NASA's Science Mission Directorate; (3) Topics specific to each Subcommittee; and (4) An update by the NASA Administrator.

Findings and recommendations developed by the Subcommittees during their breakout sessions will be submitted to the Science Committee of the NAC.

The meeting will be open to the public up to the seating capacity of the rooms. It is imperative that the meeting be held on this date to accommodate the scheduling priorities of the key participants. Attendees will be requested to sign a visitor's register.

Dated: January 26, 2007.
P. Diane Rausch,
Advisory Committee Management Officer, National Aeronautics and Space Administration.

[FR Doc. E7-1642 Filed 1-31-07; 8:45 am]

BILLING CODE 7510-13-P